DEPARTMENT OF HEALTH AND HUMAN SERVICES

Office of the Secretary

White House Commission on Complementary and Alternative Medicine Policy; Notice of Meeting

Pursuant to Section 10(d) of the Federal Advisory Committee Act, as amended (5 U.S.C. Appendix 2), notice is given of a meeting of the White House Commission on Complementary and Alternative Medicine Policy.

The purpose of the meeting is to convene the Commission for a public hearing to receive public testimony from individuals and organizations interested in the subject of Federal policy regarding complementary and alternative medicine. The major focus of the meeting is complementary and alternative (CAM) practices in self-care and wellness and the development and dissemination of information on Complementary and Alternative Medicine practices and products. Comments received at the meeting may be used by the Commission to prepare the Report to the President as required by the Executive Order.

Comments should focus on the Complementary and Alternative Medicine in Self-Care and Wellness and Complementary and Alternative Medicine Information Development and Dissemination. Invited speaker discussions on March 26 include the following: CAM Information on the Internet; CAM Information in the Media; Advertising and Marketing of CAM Information and Products; and Analysis and Evaluation of CAM Consumer Information. Invited speaker discussions on March 27 include the following: Integrative Approaches to Wellness in Children, Families, and Communities; Integrative Approaches to Wellness and Nutrition; and Integrative Approaches to Wellness and Self-Care in the Elderly, Underserved Communities, in Schools, in the Workplace, for Caregivers, and at the End of Life.

Some Commission members may participate by telephone conference. Opportunities for oral statements by the public will be provided on March 27, from about 3 p.m.-4 p.m. (Time approximate).

Name of Committee: The White House Commission on Complementary and Alternative Medicine Policy.

Date: March 26-27, 2001.

Time:

March 26—8:15 a.m.-6 p.m.

March 27—8:15 a.m.-6 p.m.

Place: Hyatt Regency Hotel on Capitol Hill, Capitol Room, Lobby Level, 400 New Jersey Avenue, NW, Washington, DC 20001.

Contact Persons:

Michele M. Chang, CMT, MPH Executive Secretary

or

Stephen C. Groft, Pharm.D., Executive Director, 6701 Rockledge Drive, Room 1010, MSC 7707, Bethesda, MD 20817-7707, Phone: (301) 435-7592, Fax: (301) 480-1691, E-mail: WHCCAMP@mail.nih.gov

Because of the need to obtain the views of the public on these issues as soon as possible and because of the early deadline for the report required of the Commission, this notice is being provided at the earliest possible time.

Supplementary Information: The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come, first serve basis. Members of the public who wish to present oral comment may register by faxing a request to register at 301-480-1691 or by accessing the website of the Commission at http://whccamp.hhs.gov no later than March 21, 2001.

Oral comments will be limited to five minutes. Individuals who register to speak will be assigned in the order in which they registered. Due to time constraints, only one representative from each organization will be allotted time for oral testimony. The number of speakers and the time allotted may also be limited by the number of registrants. All requests to register should include the name, address, telephone number, and business or professional affiliation of the interested party, and should indicate the area of interest or question (as described above) to be addressed.

Any person attending the meeting who has not registered to speak in advance of the meeting will be allowed to make a brief oral statement during the time set aside for public comment if time permits, and at the Chairperson's discretion. Individuals unable to attend the meeting, or any interested parties, may send written comments by mail, fax, or electronically to the staff office of the Commission for inclusion in the public record.

When mailing or faxing written comments provide, if possible, an electronic version on diskette. Persons needing special assistance, such as sign language interpretation or other special accommodations, should contact the Commission staff at the address or telephone number listed no later than March 21, 2001.

Dated: March 15, 2001.
LaVerne Y. Stringfield,
Director, Office of Federal Advisory Committee Policy.

[FR Doc. 01-7223 Filed 3-22-01; 8:45 am]

BILLING CODE 4140-01-M